DEPARTMENT OF AGRICULTURE

Rural Housing Service

Notice of Request for Extension of a Currently Approved Information Collection

AGENCY: Rural Housing Service, USDA.

ACTION: Proposed collection; comment request.

SUMMARY: In accordance with the Paperwork Reduction Act of 1995, this notice announces the Rural Housing Service's (RHS) intention to request an extension for the currently approved information collection in support of our program for Complaints and Compensation for Construction Defects.

DATES: Comments on this notice must be received by July 7, 2003 to be assured of consideration.

FOR FURTHER INFORMATION CONTACT: Christopher Ketner, Loan Specialist, Single Family Housing Direct Loan Division, RHS, U.S. Department of Agriculture, STOP 0783, 1400 Independence Avenue, SW., Washington, DC 20250-0783, Telephone (202) 720-1478.

SUPPLEMENTARY INFORMATION:

Title: RD Instruction 1924-F, “Complaints and Compensation for Construction Defects.”

OMB Number: 0575-0082.

Expiration Date of Approval: July 31, 2003.

Type of Request: Extension of a currently approved information collection.

Abstract: The Complaints and Compensation for Construction Defects program under section 509C of title V of the Housing Act of 1949, as amended, provides eligible persons who have structural defects with the Agency financed homes to correct these problems. Structural defects are defects in the dwelling, installation of a manufactured home, or a related facility or a deficiency in the site or site development which directly and significantly reduces the useful life, habitability, or integrity of the dwelling or unit. The defect may be due to faulty material, poor workmanship, or latent causes that existed when the dwelling or unit was constructed. The period in which to place a claim for a defect is within 18 months after the date that financial assistance was granted. If the defect is determined to be structural and is covered by the builders/dealers-contractor's warranty, the contractor is expected to correct the defect. If the contractor cannot or will not correct the defect, the borrower may be compensated for having the defect corrected, under the Complaints and Compensation for Construction Defects program. Provisions of this subpart do not apply to dwelling financed with guaranteed section 502 loans.

Estimate of Burden: Public reporting for this collection of information is estimated to average .25 hours per response.

Respondents: Individuals or households.

Estimated Number of Respondents: 500.

Estimated Number of Responses per Respondent: 1.00.

Estimated Number of Responses: 500.

Estimated Total Annual Burden on Respondents: 125 hours.

Copies of this information collection can be obtained from Brigitte Sumter, Regulations and Paperwork Management Branch, at (202) 692-0042.

Comments

Comments are invited on: (a) Whether the proposed collection of information is necessary for the proper performance of the functions of RHS, including whether the information will have practical utility; (b) the accuracy of RHS's estimate of the burden of the proposed collection of information, including a variety of methodology and assumptions used; (c) ways to enhance the quality, utility, and clarity of the information to be collected; and (d) ways to minimize the burden of the collection of information on those who are to respond, including through the use of appropriate automated, electronic, mechanical, or other technological collection techniques or other forms of information technology. Comments may be sent to Brigitte Sumter, Regulations and Paperwork Management Branch, U.S. Department of Agriculture, Rural Development, STOP 0742, 1400 Independence Avenue, SW., Washington, DC 20250-0743. All responses to this notice will be summarized and included in the request for OMB approval. All comments will also become a matter of public record.

Dated: April 23, 2003.
Arthur Garcia,
Administrator, Rural Housing Service.

[FR Doc. 03-11332 Filed 5-6-03; 8:45 am]

BILLING CODE 3410-XV-P